COMMITTEE FOR PURCHASE FROM PEOPLE WHO ARE BLIND OR SEVERELY DISABLED

Procurement List Additions

AGENCY: Committee for Purchase from People Who Are Blind or Severely Disabled.

ACTION: Additions to Procurement List.

SUMMARY: This action adds to the Procurement List a product and services to be furnished by nonprofit agencies employing persons who are blind or have other severe disabilities.

DATES: Effective Date: April 9, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: On January 13, 2006, the Committee for Purchase From People Who Are Blind or Severely Disabled published notice (71 FR 2181) of proposed additions to the Procurement List.

After consideration of the material presented to it concerning capability of qualified nonprofit agencies to provide the products and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Battery Nonrechargeable.

NSN: 6135-01-521-0378—AAA Lithium.

NPA: Eastern Carolina Vocational Center, Inc., Greenville, North Carolina.

Contracting Activity: Defense Supply Center Richmond, Richmond, Virginia.

Services

Service Type/Location: Janitorial/Custodial. Grand Prairie Reserve Center Complex, Bldgs. 301, 348, 355, 8001, and 8003, 310 Army Drive, Grand Prairie, Texas.

NPA: Goodwill Industries of Fort Worth, Inc., Fort Worth, Texas.

Contracting Activity: 90th Regional Readiness Command, North Little Rock, Arkansas.

Service Type/Location: Janitorial/Custodial. Social Security Administration, 4020 Durand Avenue, Racine, Wisconsin.

NPA: Lakeside Curative Services, Inc., Racine, Wisconsin.

Contracting Activity: GSA, Public Buildings Service, Region 5, Chicago, Illinois.

This action does not affect current contracts awarded prior to the effective date of this addition or options that may be exercised under those contracts.

Sheryl D. Kennerly,
Director, Information Management.

[FR Doc. E6-3439 Filed 3-9-06; 8:45 am]

BILLING CODE 6353-01-P